DEPARTMENT OF HEALTH AND HUMAN SERVICES

National Institutes of Health

Center for Scientific Review; Amended Notice of Meeting

Notice is hereby given of a change in the meeting of the Center for Scientific Review Special Emphasis Panel, August 3, 2002, 12 p.m. to August 3, 2002, 1 p.m., NIH, Rockledge 2, Bethesda, MD 20892 which published in the Federal Register on July 26, 2002, 67 FR 48931-48932.

The meeting will be held on August 20, 2002. The time and location remain the same. The meeting is closed to the public.

Dated: August 6, 2002.
LaVerne Y. Stringfield,
Director, Office of Federal Advisory Committee Policy.

[FR Doc. 02-20421 Filed 8-12-02; 8:45 am]

BILLING CODE 4140-01-M